DEPARTMENT OF AGRICULTURE

Submission for OMB Review; Comment Request

August 26, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by October 2, 2014 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Black Stem Rust; Identification Requirements and Addition of Rust-Resistant Varieties.

OMB Control Number: 0579-0186.

Summary of Collection: Under the Plant Protection Act (7 U.S.C. 7701—et seq.), the Secretary of Agriculture is authorized to prohibit or restrict the importation, entry, or movement of plants and plant products to prevent the introduction of plant pests into the United States or their dissemination within the United States. Black stem rust is one of the most destructive plant diseases of small grains that are known to exist in the United States. The disease is caused by a fungus that reduces the quality and yield of infected wheat, oat, barley, and rye crops by robbing host plants of food and water.

Need and Use of the Information: APHIS will collect information to prevent the spread of black stem rust by providing for and requiring the accurate identification of rust-resistant varieties by inspectors. Businesses that request APHIS to add a variety to the list of rust-resistant barberries, need to provide APHIS with a written description and color pictures that can be used by the State nursery inspectors to clearly identify the variety and distinguish it from other varieties. This action enables nurseries to move the species into and through protected areas and to propagate and sell the species in States or parts of States designated as protected areas.

Description of Respondents: Business or other for profit.

Number of Respondents: 4.

Frequency of Responses: Reporting: On occasion.

Total Burden Hours: 32.

Title: Pine Shoot Beetle Host Material from Canada.

OMB Control Number: 0579-0257.

Summary of Collection: Under the Plant Protection Act (7 U.S.C. 7701-7772), the Secretary of Agriculture is authorized to prohibit or restrict the importation, entry, or movement of plants and plant pests to prevent the introduction of plant pests into the United States or their dissemination within the United States. The Animal Plant and Health Inspection Service (APHIS) foreign quarantine regulations restrict the importation of pine shoot beetle host material into the United States from Canada. Pine shoot beetle (PSB) is a pest of pine trees. It can cause damage in weak and dying trees where reproductive and immature stages of PSB occur, and in the new growth of healthy trees. PSB can damage urban ornamental trees and can cause economic losses to the timber, Christmas trees, and nursery industries.

Need and Use of the Information: APHIS will collect the information using Compliance Agreements, Written Statements, and Canadian Phytosanitary Certificates to protect the United States from the introduction of pine shoot beetle and other plant diseases.

Description of Respondents: Business or other for profit; Federal Government.

Number of Respondents: 2,340.

Frequency of Responses: Reporting: On occasion.

Total Burden Hours: 94.

Ruth Brown,
Departmental Information Collection Clearance Officer.

[FR Doc. 2014-20678 Filed 8-29-14; 8:45 am]

BILLING CODE 3410-34-P